DEPARTMENT OF LABOR

Employment and Training Administration

Renewal of the Native American Employment and Training Council (Council) Charter

AGENCY: Employment and Training Administration, Labor.

ACTION: Notice.

SUMMARY: Notice is hereby given regarding the renewal of the Workforce Investment Act (WIA), Section 166 Indian and Native American program Charter that is necessary and in the public interest. Accordingly, the U.S. Department of Labor (the Department), the Employment and Training Administration (ETA) has renewed the Council Charter for two years commencing on August 31, 2011 through August 31, 2013. The Charter includes language regarding membership diversity and changes to the terms of members.

SUPPLEMENTARY INFORMATION:

Background: Pursuant to WIA Section 166(h)(4)(C), the Council advises the Secretary on all aspects of the operation and administration of the Native American programs authorized under the Workforce Investment Act (WIA) Section 166. In addition, the Council advises the Secretary on matters that promote the employment and training needs of American Indians and Native Americans, as well as enhance the quality of life in accordance with the Indian Self-Determination Act and Education Assistance Act. The Council shall also provide guidance to the Secretary on ways for Indians, Alaska Natives, and Native Hawaiians to successfully access and obtain Department discretionary funding and participate in special initiatives.

The charter is required to be renewed every two years; the current charter expired on July 22, 2011. The Council continues to assist ETA and the Secretary to administer WIA Section 166 program policy.

Summary of Revisions: Due to Federal Advisory Committee Act (FACA) requirements and budgetary constraints, three changes were made to the charter which include the: (1) Deletion of language that appointments will no longer remain effective until a replacement is designated by the Secretary in writing; (2) reduction in Council size with membership of not less than 15 individuals; and (3) total estimated annual operating costs for this Council of approximately $110,000. The reduction in membership size will have no impact on the Council. All council members shall serve at the pleasure of the Secretary and members may be appointed, reappointed, and/or replaced, and their terms may be extended, changed, or terminated at the Secretary discretion.

FOR FURTHER INFORMATION CONTACT: Mrs. Evangeline M. Campbell, Designated Federal Officer, Office of Workforce Investment, Employment and Training Administration, U.S. Department of Labor, Room S-4209, 200 Constitution Avenue, NW., Washington, DC 20210. Telephone: (202) 693-3737, (this is not a toll-free number).

Signed at Washington, DC, this 7th day of September 2011.
Jane Oates,
Assistant Secretary, Employment and Training Administration.

[FR Doc. 2011-23368 Filed 9-13-11; 8:45 am]

BILLING CODE 4510-FR-P